DEPARTMENT OF COMMERCE

National Oceanic and Atmospheric Administration

[I.D. 081806C]

National Marine Fisheries Service, Pacific Fishery Management Council; September 10-15, 2006 Council Meeting

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet September 10-15, 2006. The Council meeting will begin on Monday, September 11, at 3 p.m., reconvening each day through Friday, September 15. All meetings are open to the public, except a closed session will be held from 3 p.m. until 4 p.m. on Monday, September 11 to address litigation and personnel matters. The Council will meet as late as necessary each day to complete its scheduled business.

ADDRESSES: The meetings will be held at the Crowne Plaza Hotel, 1221 Chess Drive, Foster City, CA 94404; telephone: 650-570-5700.

Council address: Pacific Fishery Management Council, 7700 NE Ambassador Place, Suite 101, Portland, OR 97220.

FOR FURTHER INFORMATION CONTACT: Dr. Donald O. McIsaac, Executive Director; telephone: 503-820-2280.

SUPPLEMENTARY INFORMATION: The following items are on the Council agenda, but not necessarily in this order:

A. Call to Order

1. Opening Remarks and Introductions

2. Roll Call

3. Executive Director's Report

4. Approve Agenda

B. Administrative Matters

1. Future Council Meeting Agenda Planning

2. Regulatory Streamlining Review Development of Regional Operating Agreements for Groundfish Limited Entry in the Open Access Fishery and Pacific Mackerel Harvest Guideline

3. Approval of Council Meeting Minutes

4. Fiscal Matters

5. Appointments to Advisory Bodies, Standing Committees, and Other Forums for the 2007-2009 Term, Including any Necessary Changes to Council Operating Procedures

6. Updated Research and Data Needs

7. Council Three-Meeting Outlook, Draft November 2006 Council Meeting Agenda, and Workload Priorities

C. Groundfish Management

1. NMFS Report

2. Groundfish Bycatch Work Plan

3. Consideration of Inseason Adjustments

4. Open Access Fishery Limitation Consider Planning Priorities for Possible Fishery Management (FMP) Amendment

5. FMP Amendment 15 (American Fisheries Act Provisions)

6. Exempted Fishing Permits for 2007 Fisheries

7. Trawl Individual Quotas Stage I Alternatives and Progress Report on Stage II

8. Shore-Based Whiting Monitoring (Amendment 10)

9. Inseason Chinook Bycatch Trigger for the Pacific Whiting Fishery and Technical Correction to the Acceptable Biological Catch for Petrale Sole in the 2007-2008 Harvest Specifications and Management Measures

D. Habitat

1. Current Habitat Issues

E. Highly Migratory Species Management

1. Changes to Routine Management Measures

2. NMFS Report

F. Marine Protected Areas

1. Fishery Regulations within Channel Islands National Marine Sanctuary (CINMS)

2. Review of CINMS Draft Environmental Impact Statement Regarding Fishery Closures

G. Pacific Halibut Management

1. Proposed Changes to Catch Sharing Plan and 2007 Annual Regulations

2. Pacific Halibut Bycatch Estimate for International Pacific Halibut Commission Adoption

H. Salmon Management

1. Salmon Methodology Review

2. FMP Amendment 15 (de minimis fisheries)

SCHEDULE OF ANCILLARY MEETINGS
SUNDAY, SEPTEMBER 10, 2006 |
Trawl Individual Quota Committee | 1 pm
MONDAY, SEPTEMBER 11, 2006 |
Council Secretariat | 8 am
Groundfish Advisory Subpanel | 8 am
Groundfish Management Team | 8 am
Scientific and Statistical Committee | 8 am
Budget Committee | 10:30 am
Enforcement Consultants | 5:30 pm
Chair's Reception | 6 pm
TUESDAY, SEPTEMBER 12, 2006 |
Council Secretariat | 7 am
California State Delegation | 7 am
Oregon State Delegation | 7 am
Washington State Delegation | 7 am
Groundfish Advisory Subpanel | 8 am
Groundfish Management Team | 8 am
Scientific and Statistical Committee | 8 am
Enforcement Consultants | As necessary
Individual Trawl Quota Information Session | 7 pm
WEDNESDAY, SEPTEMBER 13, 2006 |
Council Secretariat | 7 am
California State Delegation | 7 am
Oregon State Delegation | 7 am
Washington State Delegation | 7 am
Groundfish Advisory Subpanel | 8 am
Groundfish Management Team | 8 am
Salmon Amendment Committee | 8 am
Enforcement Consultants | As necessary
THURSDAY, SEPTEMBER 14, 2006 |
Council Secretariat | 7 am
California State Delegation | 7 am
Oregon State Delegation | 7 am
Washington State Delegation | 7 am
Groundfish Advisory Subpanel | 8 am
Groundfish Management Team | 8 am
Salmon Technical Team | 8 am
Enforcement Consultants | As necessary
FRIDAY, SEPTEMBER 15, 2006 |
Council Secretariat | 7 am
California State Delegation | 7 am
Oregon State Delegation | 7 am
Washington State Delegation | 7 am
Salmon Technical Team | As necessary
Enforcement Consultants | As necessary

Although nonemergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at 503- 820-2280 at least five days prior to the meeting date.

Dated: August 22, 2006.
Tracey L. Thompson,
Acting Director, Office of Sustainable Fisheries, National Marine Fisheries Service.

[FR Doc. E6-14107 Filed 8-24-06; 8:45 am]

BILLING CODE 3510-22-S